DEPARTMENT OF TRANSPORTATION

Federal Aviation Administration

14 CFR Part 95

[Docket No. 31507; Amdt. No. 574]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: 0901 UTC, October 05, 2023.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73099. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on September 1, 2023.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows.

PART 95—IFR ALTITUDES

1. The authority citation for part 95 continues to read as follows:

Authority: 49 U.S.C. 106(g), 40103, 40113 and 14 CFR 11.49(b)(2).

2. Part 95 is amended to read as follows:

Revisions to IFR Altitudes & Changeover Point
[Amendment 574 effective date October 05, 2023]
From | To | MEA
Color Routes
§ 95.2 Red Federal Airway R39 Is Amended To Delete
OSCARVILLE, AK NDB | * ANIAK, AK NDB | ** 2000
* 3500—MCA ANIAK, AK NDB , NE BND
** 1400—MOCA
ANIAK, AK NDB | TAKOTNA RIVER, AK NDB | * 6000
* 5400—MOCA
TAKOTNA RIVER, AK NDB | MINCHUMINA, AK NDB | 5000
MINCHUMINA, AK NDB | ICE POOL, AK NDB | 4000
§ 95.60 Blue Federal Airway B2 Is Amended To Delete
POINT LAY, AK NDB | CAPE LISBURNE, AK NDB/DME | 4000
CAPE LISBURNE, AK NDB/DME | HOTHAM, AK NDB | * 8000
* 4100—MOCA
HOTHAM, AK NDB | TIN CITY, AK NDB/DME | * 5000
* 4300—MOCA
TIN CITY, AK NDB/DME | FORT DAVIS, AK NDB | * 7000
* 5900—MOCA
* 6000—GNSS MEA

From | To | MEA | MAA
§ 95.3000 Low Altitude RNAV Routes
§ 95.3225 RNAV Route T225 Is Amended To Read in Part
HOOPER BAY, AK VOR/DME | AKELT, AK FIX | * 4600 | 17500
* 2800—MOCA
AKELT, AK FIX | ZIPIX, AK WP | * 2100 | 17500
* 1300—MOCA
ZIPIX, AK WP | ALMOT, AK FIX | * 3300 | 17500
* 2500—MOCA
ALMOT, AK FIX | HERLA, AK FIX | * 3700 | 17500
* 2200—MCA HERLA, AK FIX , SW BND
* 2200—MOCA
HERLA, AK FIX | MKLUR, AK WP | * 2000 | 17500
* 2200—MCA MKLUR, AK WP , NE BND
MKLUR, AK WP | UNALAKLEET, AK VOR/DME | * 3000 | 17500
* 3000—MCA UNALAKLEET, AK VOR/DME , NE BND
§ 95.3226 RNAV Route T226 Is Amended To Read in Part
BIG DELTA, AK VORTAC | DEYEP, AK FIX | 7000 | 17500
DEYEP, AK FIX | WUTGA, AK WP | 6400 | 17500
WUTGA, AK WP | HEXAX, AK WP | * 7100 | 17500
* 3600—MCA HEXAX, AK WP , S BND
§ 95.3228 RNAV Route T228 Is Amended by Adding
ZIKNI, AK WP | KUCYE, AK WP | 3600 | 17500
HIKAX, AK WP | HIPIV, AK WP | 3800 | 17500
HIPIV, AK WP | ECIPI, AK WP | 2000 | 17500
CIRSU, AK WP | FAQIR, AK WP | 2600 | 17500
FAQIR, AK WP | BARROW, AK VOR/DME | * 2100 | 17500
* 1400—MOCA
Is Amended To Delete
CAPE NEWENHAM, AK NDB/DME | KUCYE, AK WP | 4600 | 17500
HIKAX, AK WP | SHISHMAREF, AK NDB | 4000 | 17500
SHISHMAREF, AK NDB | ECIPI, AK WP | * 10000 | 17500
* 2000—MOCA
Is Amended To Read in Part
ECIPI, AK WP | JAPKI, AK WP | 4000 | 17500
JAPKI, AK WP | PODKE, AK WP | 4000 | 17500
PODKE, AK WP | CIRSU, AK WP | 4000 | 17500
§ 95.3230 RNAV Route T230 Is Amended by Adding
ST PAUL ISLAND, AK NDB/DME | GARRS, AK FIX | 3000 | 17500
GARRS, AK FIX | KING SALMON, AK VORTAC | * 2400 | 17500
* 1500—MOCA
Is Amended To Delete
ST PAUL ISLAND, AK NDB/DME | CHINOOK, AK NDB | * 3000 | 17500
* 2700—MOCA
§ 95.3244 RNAV Route T244 Is Amended by Adding
CONFI, AK WP | JERDN, AK WP | * 3700 | 17500
* 4100—MCA JERDN, AK WP , E BND
JERDN, AK WP | CHEFF, AK WP | 5200 | 17500
Is Amended To Read in Part
CHEFF, AK WP | BETPE, AK WP | * 6700 | 17500
* 7600—MCA BETPE, AK WP , E BND
§ 95.3260 RNAV Route T260 Is Amended by Adding
VANTY, AK WP | COGNU, AK WP | 2000 | 17500
COGNU, AK WP | FEDEV, AK WP | * 4000 | 17500
* 3400—MOCA
FEDEV, AK WP | NOME, AK VOR/DME | 6100 | 17500
Is Amended To Delete
NOME, AK VOR/DME | TIN CITY, AK NDB/DME | 6900 | 17500
TIN CITY, AK NDB/DME | COGNU, AK WP | 5300 | 17500
COGNU, AK WP | POINT HOPE, AK NDB | 3000 | 17500
§ 95.3270 RNAV Route T270 Is Amended by Adding
HIPIV, AK WP | HEXOG, AK WP | 5000 | 17500
HEXOG, AK WP | HALUS, AK WP | 5600 | 17500
Is Amended To Delete
NORTON BAY, AK NDB | HEXOG, AK WP | * 6000 | 17500
* 5400—MOCA
HEXOG, AK WP | SHISHMAREF, AK NDB | 5000 | 17500
§ 95.3271 RNAV Route T271 Is Amended by Adding
JIVCO, AK WP | WUXON, AK WP | 3900 | 17500
WUXON, AK WP | WOLCI, AK WP | * 3800 | 17500
* 4200—MCA WOLCI, AK WP , NE BND
Is Amended To Read in Part
COLD BAY, AK VORTAC | BINAL, AK FIX | 3600 | 17500
BINAL, AK FIX | KING SALMON, AK VORTAC | 3000 | 17500
WOLCI, AK WP | WIDVA, AK WP | * 7300 | 17500
* 7600—MCA WIDVA, AK WP , NE BND
§ 95.3277 RNAV Route T277 Is Amended by Adding
EPEHO, AK WP | JODGU, AK WP | 4500 | 17500
Is Amended To Delete
EPEHO, AK WP | POINT LAY, AK NDB | * 6400 | 17500
* 5500—MOCA
Is Amended To Read in Part
VOVUY, AK WP | EPEHO, AK WP | * 16000 | 17500
* 4800—MCA EPEHO, AK WP , E BND
* 9400—MOCA
§ 95.3282 RNAV Route T282 Is Amended by Adding
VENCE, AK FIX | AKTIE, AK WP | 4000 | 17500
AKTIE, AK WP | FUZES, AK WP | 3700 | 17500
FUZES, AK WP | ENVOI, AK WP | 3400 | 17500
ENVOI, AK WP | ZOSTU, AK WP | 3700 | 17500
ZOSTU, AK WP | ROSII, AK WP | 3900 | 17500
Is Amended To Delete
VENCE, AK FIX | HORSI, AK FIX | 5000 | 17500
HORSI, AK FIX | PERZO, AK WP | 4700 | 17500
Is Amended To Read in Part
ROSII, AK WP | TADUE, AK WP | 3900 | 17500
TADUE, AK WP | PERZO, AK WP | 3600 | 17500
PERZO, AK WP | FAIRBANKS, AK VORTAC | 3600 | 17500
§ 95.3299 RNAV Route T299 Is Amended by Adding
OBEPE, VA FIX | UCREK, VA WP | * 5800 | 10000
* 5500—MCA UCREK, VA WP , SW BND
SCAPE, PA FIX | HARRISBURG, PA VORTAC | 3800 | 17500
HARRISBURG, PA VORTAC | BOBSS, PA FIX | 3100 | 17500
BOBSS, PA FIX | EAST TEXAS, PA VOR/DME | 3000 | 17500
EAST TEXAS, PA VOR/DME | ALLENTOWN, PA VORTAC | * 2700 | 17500
* 2900—MCA ALLENTOWN, PA VORTAC , NE BND
ALLENTOWN, PA VORTAC | HUGUENOT, NY VOR/DME | 3400 | 17500
HUGUENOT, NY VOR/DME | WEARD, NY FIX | * 3400 | 17500
* 4700—MCA WEARD, NY FIX , NE BND
WEARD, NY FIX | ALBANY, NY VORTAC | 6400 | 17500
Is Amended To Read in Part
UCREK, VA WP | KAIJE, VA WP | 4600 | 10000
KAIJE, VA WP | BAMMY, WV WP | * 5500 | 10000
* 4500—MCA BAMMY, WV WP , SW BND
BAMMY, WV WP | REEES, PA WP | 4300 | 10000
REEES, PA WP | SCAPE, PA FIX | 3700 | 10000
§ 95.3365 RNAV Route T365 Is Added To Read
BROOKLEY, AL VORTAC | GARTS, MS WP | 2000 | 17500
GARTS, MS WP | MIZZE, MS FIX | 2200 | 17500
MIZZE, MS FIX | MAGNOLIA, MS VORTAC | 2400 | 17500
§ 95.3376 RNAV Route T376 Is Added To Read
FAGIN, AK FIX | VAYUT, AK WP | * 5000 | 17500
* 3000—MCA VAYUT, AK WP , W BND
VAYUT, AK WP | WOLCI, AK WP | * 2500 | 17500
* 4200—MCA WOLCI, AK WP , SE BND
WOLCI, AK WP | JETIG, AK WP | 4900 | 17500
JETIG, AK WP | FEDGI, AK WP | * 4900 | 17500
* 5100—MCA FEDGI, AK WP , E BND
FEDGI, AK WP | WUKSU, AK WP | 5600 | 17500
WUKSU, AK WP | HAMPU, AK WP | 5600 | 17500
HAMPU, AK WP | HOMER, AK VOR/DME | 3700 | 17500
§ 95.3379 RNAV Route T379 Is Added To Read
MAYHW, AK WP | MUPVE, AK WP | 7400 | 17500
MUPVE, AK WP | HIBNA, AK WP | 7000 | 17500
HIBNA, AK WP | JEKBO, AK WP | * 6800 | 17500
* 6100—MCA JEKBO, AK WP , S BND
JEKBO, AK WP | ZOKAM, AK WP | 5300 | 17500
ZOKAM, AK WP | JEBDA, AK WP | 5500 | 17500
JEBDA, AK WP | AMEDE, AK WP | 5500 | 17500
AMEDE, AK WP | ZARUM, AK WP | 5600 | 17500
ZARUM, AK WP | TIRIE, AK WP | 5600 | 17500
TIRIE, AK WP | UTICE, AK WP | 4400 | 17500
§ 95.3380 RNAV Route T380 Is Added To Read
EMMONAK, AK VOR/DME | HUMLA, AK WP | * 2100 | 17500
* 1300—MOCA
HUMLA, AK WP | HUROP, AK WP | * 2800 | 17500
* 2000—MOCA
HUROP, AK WP | JOPES, AK WP | * 2700 | 17500
* 1900—MOCA
JOPES, AK WP | ANESE, AK WP | * 3000 | 17500
* 2000—MOCA
ANESE, AK WP | EYOPA, AK WP | * 4000 | 17500
* 3200—MOCA
EYOPA, AK WP | DAVBE, AK WP | * 3500 | 17500
* 3000—MOCA
DAVBE, AK WP | CIBUP, AK WP | 3600 | 17500
CIBUP, AK WP | AMEDE, AK WP | 5000 | 17500
AMEDE, AK WP | CERTU, AK WP | * 5300 | 17500
* 4600—MCA CERTU, AK WP , W BND
CERTU, AK WP | FABGI, AK WP | 3500 | 17500
FABGI, AK WP | SPARREVOHN, AK VOR/DME | 5500 | 17500
§ 95.3386 RNAV Route T386 Is Added To Read
FAIRBANKS, AK VORTAC | DEYEP, AK FIX | 6700 | 17500
DEYEP, AK FIX | WUTGA, AK WP | * 6000 | 17500
* 6200—MCA WUTGA, AK WP , NE BND
WUTGA, AK WP | FIXEG, AK WP | * 6600 | 17500
* 5500—MCA FIXEG, AK WP , SW BND
FIXEG, AK WP | JEGPA, AK WP | * 4100 | 17500
* 4100—MCA JEGPA, AK WP , SW BND
JEGPA, AK WP | WEXIK, AK WP | 4000 | 17500
§ 95.3388 RNAV Route T388 Is Added To Read
WIXER, AK WP | ZOPAB, AK WP | 5200 | 17500
ZOPAB, AK WP | HEBMI, AK WP | 5000 | 17500
HEBMI, AK WP | ZEMIR, AK WP | * 10000 | 17500
* 5400—MOCA
ZEMIR, AK WP | JUDAX, AK WP | * 10000 | 17500
* 4300—MOCA
JUDAX, AK WP | BAILY, AK FIX | * 10000 | 17500
* 4800—MOCA
§ 95.3452 RNAV Route T452 Is Added To Read
VINSE, PA FIX | BADDI, PA FIX | 4700 | 17500
BADDI, PA FIX | HARRISBURG, PA VORTAC | * 4000 | 17500
* 3600—MCA HARRISBURG, PA VORTAC , W BND
HARRISBURG, PA VORTAC | JOANE, PA FIX | 3000 | 17500
JOANE, PA FIX | GEERI, PA FIX | 2400 | 17500
GEERI, PA FIX | REESY, PA WP | 2700 | 17500
§ 95.3456 RNAV Route T456 Is Added To Read
VINSE, PA FIX | AMISH, PA FIX | 4200 | 17500
AMISH, PA FIX | SCAPE, PA FIX | 3600 | 17500
SCAPE, PA FIX | NOENO, PA FIX | 3800 | 17500
NOENO, PA FIX | PIFER, PA FIX | 2700 | 17500
PIFER, PA FIX | GRAMO, PA FIX | 2600 | 17500
GRAMO, PA FIX | DELRO, PA FIX | 2900 | 17500
DELRO, PA FIX | ROAST, PA FIX | 2900 | 17500
ROAST, PA FIX | GEERI, PA FIX | 2600 | 17500
GEERI, PA FIX | PADRE, PA FIX | 2700 | 17500
PADRE, PA FIX | FOLEZ, PA WP | 2600 | 17500
FOLEZ, PA WP | MODENA, PA VORTAC | 2300 | 17500
§ 95.3471 RNAV Route T471 Is Added To Read
RCOLA, LA WP | RELAY, LA FIX | 1800 | 17500
RELAY, LA FIX | WRACK, LA FIX | 2000 | 17500
WRACK, LA FIX | NTCHZ, MS WP | 2100 | 17500
NTCHZ, MS WP | ZAROX, LA FIX | 2000 | 17500
ZAROX, LA FIX | MONROE, LA VORTAC | 1900 | 17500
§ 95.3473 RNAV Route T473 Is Added To Read
ICEKI, MS WP | NTCHZ, MS WP | 2000 | 17500
NTCHZ, MS WP | TULLO, LA WP | 2000 | 17500
TULLO, LA WP | MONROE, LA VORTAC | 2000 | 17500
§ 95.3474 RNAV Route T474 Is Added To Read
ALEXANDRIA, LA VORTAC | NTCHZ, MS WP | 2000 | 17500
NTCHZ, MS WP | BARNE, MS WP | * 3500 | 17500
* 1900—MOCA
BARNE, MS WP | MAGNOLIA, MS VORTAC | 3500 | 17500
§ 95.3477 RNAV Route T477 Is Added To Read
CPTAL, MD WP | HAGERSTOWN, MD VOR | 3300 | 17500
HAGERSTOWN, MD VOR | VINSE, PA FIX | * 4200 | 17500
* 4700—MCA VINSE, PA FIX , N BND
VINSE, PA FIX | BLINK, PA FIX | 4700 | 17500
BLINK, PA FIX | PHILIPSBURG, PA VORTAC | 4900 | 17500
§ 95.3481 RNAV ROute T481 Is Added To Read
BIORKA ISLAND, AK VORTAC | LYRIC, AK FIX | 5100 | 17500
LYRIC, AK FIX | SISTERS ISLAND, AK VORTAC | 5800 | 17500
SISTERS ISLAND, AK VORTAC | CHILL, AK WP | 7400 | 17500
CHILL, AK WP | BAVKE, AK WP | 8700 | 17500
BAVKE, AK WP | MAGNM, AK WP | 9300 | 17500
§ 95.3719 RNAV Route T719 Is Added To Read
U.S. CANADIAN BORDER | LATCH, AK FIX | 3000 | 17500
LATCH, AK FIX | BIORKA ISLAND, AK VORTAC | 4000 | 17500
§ 95.4000 High Altitude RNAV Routes
§ 95.4117 RNAV Route Q117 Is Amended to Read in Part
PRONI, NC WP | CUDLE, NC WP | * 18000 | 45000
* 18000—GNSS MEA
* DME/DME/IRU MEA
§ 95.4131 RNAV Route Q131 Is Amended To Delete
KALDA, VA FIX | ZJAAY, MD WP | * 18000 | 45000
* 18000—GNSS MEA
* DME/DME/IRU MEA
Is Amended To Read in Part
WAALT, NC WP | PRONI, NC WP | * 18000 | 45000
* 18000—GNSS MEA
* DME/DME/IRU MEA
PRONI, NC WP | EARZZ, NC WP | * 18000 | 45000
* 18000—GNSS MEA
* DME/DME/IRU MEA
§ 95.4167 RNAV Route Q167 Is Amended by Adding
KALDA, VA WP | ZJAAY, MD WP | * 18000 | 45000
* 18000—GNSS MEA
* DME/DME/IRU MEA
§ 95.4180 RNAV Route Q180 Is Added To Read
BUCKEYE, AZ VORTAC | DEMING, NM VORTAC | * 18000 | 45000
* 18000—GNSS MEA
* DME/DME/IRU MEA
DEMING, NM VORTAC | NEWMAN, TX VORTAC | * 18000 | 45000
* 18000—GNSS MEA
* DME/DME/IRU MEA
§ 95.4409 RNAV Route Q409 Is Amended by Adding
TRPOD, MD WP | OYVAY, DE WP | * 18000 | 45000
* 18000—GNSS MEA
* DME/DME/IRU MEA
OYVAY, DE WP | VILLS, NJ WP | * 18000 | 45000
* 18000—GNSS MEA
* DME/DME/IRU MEA
Is Amended To Delete
TRPOD, MD WP | GNARO, DE WP | * 18000 | 45000
* 18000—GNSS MEA
* DME/DME/IRU MEA
GNARO, DE WP | VILLS, NJ WP | * 18000 | 45000
* 18000—GNSS MEA
* DME/DME/IRU MEA |  |  |
§ 95.4439 RNAV Route Q439 Is Amended by Adding
HOWYU, DE WP | RADDS, DE FIX | * 18000 | 45000
* 18000—GNSS MEA
* DME/DME/IRU MEA
RADDS, DE FIX | WNSTN, NJ WP | * 18000 | 45000
* 18000—GNSS MEA
* DME/DME/IRU MEA
WNSTN, NJ WP | AVALO, NJ FIX | * 18000 | 45000
* 18000—GNSS MEA
* DME/DME/IRU MEA
AVALO, NJ FIX | BRIGS, NJ FIX | * 18000 | 45000
* 18000—GNSS MEA
* DME/DME/IRU MEA

From | To | MEA
§ 95.6001 Victor Routes—U.S.
§ 95.6011 VOR Federal Airway V11 Is Amended To Delete
BROOKLEY, AL VORTAC | GREENE COUNTY, MS VORTAC | 2000
GREENE COUNTY, MS VORTAC | MIZZE, MS FIX | * 4000
* 1900—MOCA
* 3000—GNSS MEA
MIZZE, MS FIX | MAGNOLIA, MS VORTAC | * 3000
* 2400—MOCA
§ 95.6013 VOR Federal Airway V13 Is Amended To Read in Part
DULUTH, MN VORTAC | * WEMAN, MN FIX | 4000
* 6000—MRA
* 10000—MCA WEMAN, MN FIX , NE BND
WEMAN, MN FIX | U.S. CANADIAN BORDER | 10000
§ 95.6037 VOR Federal Airway V37 Is Amended To Read in Part
JOTTA, NC FIX | DOILY, VA FIX | * 7000
* 5900—MOCA
DOILY, VA FIX | PULASKI, VA VORTAC | 6000
§ 95.6044 VOR Federal Airway V44 Is Amended To Read in Part
BALTIMORE, MD VORTAC | * PALEO, MD FIX | 2200
* 13500—MCA PALEO, MD FIX , E BND |  |
§ 95.6070 VOR Federal Airway V70 Is Amended To Delete
PICAYUNE, MS VOR/DME | GREENE COUNTY, MS VORTAC | 2000
GREENE COUNTY, MS VORTAC | MONROEVILLE, AL VORTAC | 2000
§ 95.6071 VOR Federal Airway V71 Is Amended To Delete
FIGHTING TIGER, LA VORTAC | WRACK, LA FIX | * 2200
* 1800—MOCA
WRACK, LA FIX | NATCHEZ, MS VOR/DME | * 3500
* 2200—MOCA
* 2200—GNSS MEA
NATCHEZ, MS VOR/DME | MONROE, LA VORTAC | 2000
§ 95.6120 VOR Federal Airway V120 Is Amended To Read in Part
GREAT FALLS, MT VORTAC | LEWISTOWN, MT VOR/DME | 8600
LEWISTOWN, MT VOR/DME | ESTRO, MT FIX | 7800
ESTRO, MT FIX | MILES CITY, MT VOR/DME | * 11000
* 7800—MOCA
#MEA IS ESTABLISHED WITH A GAP IN NAVIGATION SIGNAL COVERAGE
§ 95.6194 VOR Federal Airway V194 Is Amended To Read in Part
MCB, MS VORTAC | * MIZZE, MS FIX | ** 3500
* 3500—MCA MIZZE, MS FIX , SW BND
** 2000—MOCA
§ 95.6212 VOR Federal Airway V212 Is Amended To Read in Part
SETTA, MS FIX | MC COMB, MS VORTAC E BND W BND | * 3000 * 4000
* 2000—MOCA
§ 95.6245 VOR Federal Airway V245 Is Amended To Delete
ALEXANDRIA, LA VORTAC | NATCHEZ, MS VOR/DME | 2000
NATCHEZ, MS VOR/DME | MAGNOLIA, MS VORTAC | 3500
§ 95.6554 VOR Federal Airway V554 Is Amended To Delete
NATCHEZ, MS VOR/DME | * TULLO, LA WP | ** 6000
* 6000—MCA TULLO, LA WP , SE BND
** 1800—MOCA
TULLO, LA WP | MONROE, LA VORTAC | 2000
§ 95.6570 VOR Federal Airway V570 Is Amended To Delete
ALEXANDRIA, LA VORTAC | NATCHEZ, MS VOR/DME | 2000
NATCHEZ, MS VOR/DME | MC COMB, MS VORTAC | 2000

From | To | MEA | MAA
§ 95.7001 Jet Routes
§ 95.7070 Jet Route J70 Is Amended To Read in Part
MULLAN PASS, ID VOR/DME | LEWISTOWN, MT VOR/DME | 22000 | 45000
LEWISTOWN, MT VOR/DME | DICKINSON, ND VORTAC | #21000 | 45000
#MEA IS ESTABLISHED WITH A GAP IN NAVIGATION SIGNAL COVERAGE
§ 95.7184 Jet Route J184 Is Amended To Delete
BUCKEYE, AZ VORTAC | DEMING, NM VORTAC | 23000 | 45000
DEMING, NM VORTAC | NEWMAN, TX VORTAC | 18000 | 45000
§ 95.7590 Jet Route J590 Is Amended To Delete
LAKE CHARLES, LA VORTAC | FIGHTING TIGER, LA VORTAC | 18000 | 45000
FIGHTING TIGER, LA VORTAC | GREENE COUNTY, MS VORTAC | 18000 | 45000
GREENE COUNTY, MS VORTAC | MONTGOMERY, AL VORTAC | 18000 | 45000

Airway segment: From | Airway segment: To | Changeover points: Distance | Changeover points: From
§ 95.8003 VOR Federal Airway Changeover Points
V245 Is Amended To Delete Changeover Point
NATCHEZ, MS VOR/DME | MAGNOLIA, MS VORTAC | 25 | NATCHEZ

[FR Doc. 2023-19378 Filed 9-7-23; 8:45 am]

BILLING CODE 4910-13-P